DEPARTMENT OF COMMERCE

Submission for OMB Review; Comment Request

The Department of Commerce (DOC) will submit to the Office of Management and Budget (OMB) for clearance the following proposal for collection of information under provisions of the Paperwork Reduction Act (44 U.S.C. Chapter 35).

Agency: Bureau of Industry and Security (BIS).

Title: Special Comprehensive License.

Agency Form Number: BIS-748P, BIS-752.

OMB Approval Number: 0694-0089.

Type of Request: Extension of a currently approved collection of information.

Burden Hours: 966.

Average Time per Response: 50 minutes to 40 hours per response.

Number of Respondents: 110.

Needs and Uses: The Special Comprehensive License Procedure authorizes multiple shipments of items from the U.S. or from previously-approved by BIS consignees abroad to conduct the following activities: Servicing, support services, stocking spare parts, maintenance, capital expansion, manufacturing, support scientific data acquisition, reselling and reexporting in the form received, and other activities as approved on a case-by-case basis.

Affected Public: Business or other for-profit organizations.

Respondent's Obligation: Required to retain or obtain benefits.

OMB Desk Officer: David Rostker, (202) 395-3987.

Copies of the above information collection proposal can be obtained by calling or writing Diana Hynek, Departmental Paperwork Clearance Officer, (202) 482-0266, Department of Commerce, Room 6625, 14th and Constitution Avenue, NW., Washington, DC 20230.

Written comments and recommendations for the proposed information collection should be sent within 30 days of publication of this notice to David Rostker, OMB Desk Officer, e-mail address, David_Rostker@omb.eop.gov, or fax number, (202) 395-7285.

Dated: July 20, 2007.
Gwellnar Banks,
Management Analyst, Office of the Chief Information Officer.

[FR Doc. E7-14452 Filed 7-25-07; 8:45 am]

BILLING CODE 3510-DT-P